DEPARTMENT OF TRANSPORTATION

Federal Railroad Administration

[Docket No. FRA-2000-7257, Notice No. 90]

Railroad Safety Advisory Committee; Notice of Meeting

AGENCY: Federal Railroad Administration (FRA), Department of Transportation (DOT).

ACTION: Notice of public meeting.

SUMMARY: FRA announces the sixty-first meeting of the Railroad Safety Advisory Committee (RSAC or Committee), a Federal Advisory Committee that develops railroad safety regulations through a consensus process. The meeting will take place via videoconference.

DATES: The RSAC meeting is scheduled for Wednesday, December 8, 2021. The meeting will commence at 9:30 a.m. and will adjourn by 12:30 p.m. (all times Eastern Standard Time). Requests to submit written materials to be reviewed during the meeting must be received by December 1, 2021. Members of the public who wish to attend are asked to register no later than December 1, 2021. FRA requests that individuals who require accommodations because of a disability notify RSAC Coordinator Kenton Kilgore prior to the meeting.

ADDRESSES: The link to join the virtual meeting will be published on the RSAC website at https://rsac.fra.dot.gov/news at least one week in advance of the meeting. Please see the RSAC website for additional information on the Committee at https://rsac.fra.dot.gov/.

FOR FURTHER INFORMATION CONTACT: Kenton Kilgore, RSAC Designated Federal Officer/RSAC Coordinator, FRA Office of Railroad Safety, at telephone: (202) 365-3724 or email: kenton.kilgore@dot.gov. Any Committee-related request should be sent to Mr. Kilgore.

SUPPLEMENTARY INFORMATION: Pursuant to Section 10(a)(2) of the Federal Advisory Committee Act (Pub. L. 92-463), FRA is giving notice of a meeting of the RSAC.

The RSAC is composed of 51 voting representatives from 26 member organizations, representing various rail industry perspectives. The diversity of the Committee ensures the requisite range of views and expertise necessary to discharge its responsibilities.

Public Participation: The meeting is open to the public. Attendance is on a first-come, first-served basis, and the meeting is accessible to individuals with disabilities. DOT and FRA are committed to providing equal access to this meeting for all participants. If you need alternative formats or services because of a disability, please contact Mr. Kenton Kilgore as listed in the FOR FURTHER INFORMATION CONTACT section and submit your request at least ten business days in advance of the meeting. The public may submit written statements to the Committee at any time. If the member of the public wants the submitted written materials to be reviewed by the Committee during the meeting, the materials must be received before the deadline listed in the DATES section.

Agenda Summary: The RSAC meeting topics will include discussion of the new RSAC charter for 2021-2023. FRA will present updates on recent activity by RSAC Working Groups for: Part 225 Accident Reporting; Passenger Safety; and Track Standards. FRA intends to propose to the Committee two new tasks, one related to Confidential Close Call Reporting Systems (C3RS); the other related to roadway worker protection. The detailed agenda will be posted on the RSAC internet website at least one week in advance of the meeting.

Issued in Washington, DC.
Amitabha Bose,
Deputy Administrator.

[FR Doc. 2021-25461 Filed 11-22-21; 8:45 am]

BILLING CODE 4910-06-P